DEPARTMENT OF LABOR

Employment and Training Administration

[TA-W-37,828]

Johnstown, Corporation, Johnstown, PA; Notice of Revised Determination of Reconsideration

On October 19, 2000, the Department issued an Affirmative Determination Regarding Application on Reconsideration applicable to workers and former workers of the subject firm. The notice soon will be published in the Federal Register.

The Department initially denied TAA to workers of Johnstown Corporation, Johnstown, Pennsylvania, because the “contributed importantly” group eligibility requirement of Section 222(3) of the Trade Act of 1974, as amended, was not met.

On reconsideration, the Department obtained additional information from the company regarding the company's lost customer bids of iron rolls during the relevant period. The survey revealed that major respondents reported awarding the contracts to foreign sources for which the subject firm was the lowest domestic bidder.

Conclusion

After careful review of the additional facts obtained on reconsideration, I conclude that increased imports of articles like or directly competitive with iron rolls contributed importantly to the declines in sales or production and to the total or partial separation of workers of Johnstown Corporation, Johnstown, Pennsylvania. In accordance with the provisions of the Act, I make the following certification:

All workers of Johnstown Corporation, Johnstown, Pennsylvania who became totally or partially separated from employment on or after June 9, 1999 are eligible to apply for adjustment assistance under Section 223 of the Trade Act of 1974;

Signed in Washington, DC this 16th day of November 2000.
Linda G. Poole,
Certifying Officer, Division of Trade Adjustment Assistance.

[FR Doc. 00-31813 Filed 12-13-00; 8:45 am]

BILLING CODE 4510-30-M